FEDERAL COMMUNICATIONS COMMISSION

[GN Docket No. 22-352; DA 22-974; FR ID 107907]

180-Day Freeze on Applications for New or Modified Authorizations for the 12.7-13.25 GHz Band

AGENCY: Federal Communications Commission.

ACTION: Announcement of temporary freeze.

SUMMARY: In this document, the International, Public Safety and Homeland Security, Media, and Wireless Telecommunications Bureaus (Bureaus) announce a 180-day freeze, effective September 19, 2022 on the filing of new or modification applications for licenses or other authorizations in the 12.7-12.75 GHz and 12.75-13.250 GHz bands (collectively, 12.7 GHz band). The purpose of this temporary freeze is to preserve the current landscape of authorized operations in the 12.7 GHz band pending the Commission's consideration of actions that might encourage the larger and more effective use of this radio spectrum in the public interest.

DATES: Filing of certain applications is frozen as of September 19, 2022.

FOR FURTHER INFORMATION CONTACT: Simon Banyai, Broadband Division, Wireless Telecommunications Bureau, (202) 418-1443 or simon.banyai@fcc.gov.

SUPPLEMENTARY INFORMATION: This a summary of the Commission's document, DA 22-974, released on September 19, 2022. The full text of this document is available at https://docs.fcc.gov/public/attachments/DA-22-974A1.pdf. To request materials in accessible formats (braille, large print, computer diskettes, or audio recordings), please send an email to FCC504@fcc.gov or call the Consumer & Government Affairs Bureau at (202) 418-0530 (VOICE), (202) 418-0432 (TTY).

Filing Freeze in 12.7-12.75 GHz and 12.75-13.25 GHz Band (12.7 GHz Band). To preserve the current landscape of authorized operations in the 12.7 GHz band to facilitate the Commission's consideration of spectrum management and planning options, the Bureaus announce a 180-day freeze, effective as of September 19, 2022, on the filing of new or modification applications for fixed satellite service (FSS) space stations serving earth stations located in the United States, FSS earth stations, broadcast auxiliary services, cable television relay service, and fixed microwave services stations, in the 12.7 GHz band, except as otherwise noted herein. The decision to impose this temporary freeze is procedural in nature, and therefore the freeze is exempt from the notice and comment and effective date requirements of the Administrative Procedure Act. Moreover, and in the alternative, the Commission finds good cause to conclude that prior notice and comment or a delay in effectiveness would be impractical, unnecessary, and contrary to the public interest because it would undermine the purposes of the freeze. The Bureaus find that this temporary freeze will help preserve the options available to the Commission for consideration of additional uses of the band while limiting the potential for speculative applications that might be filed in anticipation of potential future actions by the Commission. The Commission or the Bureaus may extend the freeze if doing so is deemed necessary to avoid undermining the purpose of the freeze. Any conditional authority conferred by rule during the pendency of an application is inapplicable to an application that will be dismissed under this freeze.¹ Any temporary authority to operate in the 12.7 GHz band at temporary locations conferred by rule or license will remain operative.²

¹ See, e.g., 47 CFR 74.25(a), 101.31(b) (conditional authorization during pendency of certain properly filed, completed formal applications that do not require a waiver).

² See, e.g., 47 CFR 74.24 (short-term operation), 101.31(a) (operation at temporary locations).

Space stations. During the freeze, the International Bureau will dismiss any new space station license applications and new requests for access to the U.S. market through non-U.S.-licensed space stations, or those parts of any such applications and requests, that seek to operate in the 12.7 GHz band. Exceptions: The freeze does not apply to new applications for space stations limited to serving earth stations outside the United States, applications for modification of existing space station authorizations,³ relocations of existing space stations pursuant to the Commission's fleet management policy,⁴ or to applications for replacement space stations.⁵

³ 47 CFR 25.117.

⁴ 47 CFR 25.118(e) (permitting the relocation of a GSO space station without prior authorization, but upon 30 days prior notice to the Commission and any potentially affected licensed spectrum user, provided that the operator meets specific requirements, including a requirement that the space station will be relocated to a position within ±0.15° of an orbital location assigned to the same licensee).

⁵ 47 CFR 25.158(a)(2), 25.165(e)(1),(2).

Earth stations. During the freeze, the International Bureau will dismiss applications, or those portions of applications, received for new earth station licenses, and modifications to earth stations currently authorized, to operate in the 12.7 GHz band. Exceptions: The freeze does not extend to applications for renewal or cancellation of current earth station authorizations,⁶ or modifications to correct location or other data required in the earth station file,⁷ or to certain other earth station modifications described below.

⁶ 47 CFR 25.121(e).

⁷ See generally International Bureau Addresses Accuracy of Earth Station Location Information in IBFS, Public Notice, 32 FCC Rcd 9512 (IB 2017); 47 CFR 25.117.

Broadcast Auxiliary.⁸ During the freeze, the Wireless Telecommunications Bureau will dismiss applications received for new or major modifications to fixed or mobile BAS stations to operate in the 12.7 GHz band. Exceptions: The freeze does not extend to applications for renewal, cancellation, and certain minor modifications described below.

⁸ See 47 CFR part 74, subparts E, and F (ULS radio service codes: AI, AS, TB, TI, TP, TS, TT).

Cable Television Relay.⁹ During the freeze, the Media Bureau will dismiss applications received for new or major modifications to fixed or mobile CARS stations to operate in the 12.7 GHz band. Exceptions: The freeze does not extend to applications for renewal, cancellation, and certain minor modifications discussed below.

⁹ See 47 CFR part 78 (COALS radio service: CS).

Fixed Microwave.¹⁰ During the freeze, the Wireless Telecommunications and Public Safety and Homeland Security Bureaus will dismiss applications received for new or major modifications to fixed or mobile microwave stations to operate in the 12.7 GHz band. Exceptions: The freeze does not extend to applications for renewal, cancellation, or certain minor modifications discussed below.

¹⁰ See 47 CFR part 101, subparts H, I, and J (ULS radio service codes: CF, CT, MG, MW, WA).

Exception to freeze for certain modification applications. Under the Commission's emerging technology policies (ET),¹¹ microwave incumbents in 1.9 GHz and 2.1 GHz bands that were allocated for emerging technologies were permitted to retain primary status for certain minor modifications if they affirmatively justified primary status and established that the modification would not add to the relocation costs of ET licensees. Based on this precedent, under the instant freeze, incumbents with primary status will be permitted to make the following modifications on a primary basis to any future ET licensees if the incumbent licensee establishes that the modification would not add to any relocation costs, if applicable in the future:

¹¹ See generally 47 CFR 101.81.

• earth stations: modifications not requiring prior Commission authorization,¹²

¹² 47 CFR 25.118(a)-(b).

• BAS, CARS, and Fixed Microwave stations: minor modifications.¹³

¹³ See 47 CFR 1.947(b) (licensees may make certain minor modifications to station authorizations, as defined in § 1.929 (Classification of filings as major minor). Section 1.929(d) discusses major actions in the microwave, aural broadcast auxiliary, and television broadcast auxiliary services and Section 1.929(k) states that any change not specifically listed as major is considered minor. See 47 CFR 1.929(d) & (k); see also id. at §§ 78.109(c)-(d) (defining minor modifications for CARS licenses).

The appropriate Bureau will consider requests for waiver of this freeze on a case-by-case basis and upon a demonstration that waiver will serve the public interest and not undermine the objectives of the freeze.

Federal Communications Commission.
Blaise Scinto,
Chief, Broadband Division, Wireless Telecommunications Bureau.

[FR Doc. 2022-22644 Filed 10-18-22; 8:45 am]

BILLING CODE 6712-01-P